DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 26, 2001.

Interested persons are invited to submit written comments regarding the subject matter of the investigatons to the Director, Division of Trade Adjustment Assistance, at the address shown below, not later than March 26, 2001.

The petitions filed in this case are available for inspection at the Office of the Director, Division of Trade Adjustment Assistance, Employment and Training Administration, U.S. Department of Labor, Room C-5311, 200 Constitution Avenue, NW., Washington, DC 20210.

Signed at Washington, DC this 12th day of February, 2001.
Edward A. Tomchick,
Director, Division of Trade Adjustment Assistance.

Appendix
[Petitions Instituted On 02/12/2001]
TA-W | Subject firm (petitioners) | Location | Date of petition | Product(s)
38,659 | Motorola Energy Systems (Co.) | Lawrenceville, GA | 01/26/2001 | Battery Packs.
38,660 | VF Imagewear (West) (Co.) | Henning, TN | 01/19/2001 | Uniforms—Distribution Services.
38,661 | Converse, Inc. (Co.) | Mission, TX | 02/02/2001 | Athletic Tennis Shoes.
38,662 | Potlatch Corporation (PACE) | Lewiston, ID | 01/26/2001 | Wood Pulp and Paperboard.
38,663 | Johnson Electric Auto. (Wkrs) | Brownsville, TX | 01/26/2001 | Motors for Lawnmowers and Boats.
38,664 | Island Screenworks (Co.) | Myrtle Beach, SC | 01/30/2001 | T-Shirts.
38,665 | Victor Equipment (Co.) | Denton, TX | 01/20/2001 | Welding Equipment.
38,666 | Marco Distributing (Co.) | Idaho Falls, ID | 01/12/2001 | Snowmobile Clothing and Accessories.
38,667 | New Era Cap (CWA) | Derby, NY | 01/30/2001 | Baseball Caps.
38,668 | Motor Appliance (IBT) | Washington, MO | 01/10/2001 | Fractional Horsepower Motors.
38,669 | Matsushita Compressor (Wkrs) | Mooresville, NC | 01/29/2001 | Air Conditioner Compressors.
38,670 | Mayfair Creamery (Wkrs) | Somerset, PA | 01/28/2001 | Packaging of Butter.
38,671 | Raven Industries (Co.) | Sioux Falls, SD | 01/25/2001 | Insulated Outerwear Clothing.
38,672 | TECO Westinghouse Motor (Wkrs) | Round Rock, TX | 01/30/2001 | AC Induction Motors.
38,673 | BP Exploration, Alaska (Co.) | Anchorage, OK | 01/31/2001 | Oil and Gas Exploration.
38,674 | York International (Wkrs) | Portland, OR | 01/23/2001 | Construction Handling Systems.
38,675 | Earl Soesbe Co., Inc. (USWA) | Rensselser, IN | 01/29/2001 | Steel Refuse Containers.
38,676 | West Ark/Dunbrooke (Co.) | Orange City, IA | 02/01/2001 | Baseball Jackets.
38,677 | Super Sack Manufacturing (Co.) | Savoy, TX | 01/26/2001 | Semi-Bulk Packaging Containers.
38,678 | Monona Wire Corporation (Wkrs) | Wayzeka, WI | 12/14/2000 | Wire Harnesses.
38,679 | Kazoo Texas Cutting (Wkrs) | San Antonio, TX | 01/26/2001 | Apparel Cutting.
38,680 | Johns Manville Corp. (Wkrs) | Vienna, WV | 01/03/2001 | Air Filtration Media.
38,681 | Arrow Industries (Wkrs) | Carrollton, TX | 01/24/2001 | Plastic Food Bags.
38,682 | Fleetguard Nelson Logisti (Wkrs) | Black Riv. Fall, WI | 01/23/2001 | Exhaust and Filtration Products.
38,683 | Didde Web Press (Wkrs) | Emporia, KS | 01/22/2001 | Printing Presses.

[FR Doc. 01-6445 Filed 3-14-01; 8:45 am]

BILLING CODE 4510-30-M